DEPARTMENT OF ENERGY

Federal Energy Regulatory Commission

[Docket No. RP99-176-034]

Natural Gas Pipeline Company of America; Notice of Negotiated Rate

May 8, 2001.

Take notice that on April 30, 2001, Natural Gas Pipeline Company of America (Natural) tendered for filing as part of its FERC Gas Tariff, Sixth Revised Volume No. 1, certain tariff sheets, with an effective date of May 1, 2001.

Natural states that the purpose of this filing is to implement three negotiated rate transactions with Duke Energy Lee, LLC under Natural's Rate Schedule FTS and FRSS pursuant to Section 49 of the General Terms and Conditions of Natural's tariff.

Natural states that copies of the filing are being mailed to its customers, interested state commissions and all parties set out on the Commission's official service list in Docket No. RP99-176.

Any person desiring to be heard or to protest said filing should file a motion to intervene or protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-11980 Filed 5-11-01; 8:45 am]

BILLING CODE 6717-01-M